DEPARTMENT OF AGRICULTURE

Commodity Credit Corporation

7 CFR Part 1436

RIN 0560-AI35

Farm Storage Facility Loan (FSFL) Program; Portable Storage Facilities and Reduced Down Payment for FSFL Microloans; Correction

AGENCY: Commodity Credit Corporation and Farm Service Agency, USDA.

ACTION: Final rule; correcting amendment.

SUMMARY: The Farm Service Agency (FSA) administers the FSFL Program on behalf of the Commodity Credit Corporation (CCC). In the final rule that was published in the Federal Register on April 29, 2016, a word was inadvertently removed from the regulations. This document reinserts that word back into the regulation.

DATES: Effective date: April 3, 2017.

FOR FURTHER INFORMATION CONTACT: Mary Ann Ball; phone (202) 720-4283. Persons with disabilities who require alternative means of communication should contact the USDA Target Center at (202) 720-2600 (voice).

SUPPLEMENTARY INFORMATION: FSA administers the FSFL Program on behalf of CCC. An instruction on page 25595 of the final rule that was published in the Federal Register on April 29, 2016 (81 FR 25587-255595) resulted in the word “loan” being removed each time it appeared in § 1436.15(b). However, the correct instruction would have removed the word loan in the two instances it appeared in the phrase “loan collateral” in paragraph (b). This document reinserts the word loan back into the first sentence the first time it had previously appeared.

List of Subjects in 7 CFR Part 1436

Administrative practice and procedure, Loan programs—agriculture, Penalties, Price support programs, Reporting and recordkeeping requirements.

For the reasons discussed above, 7 CFR part 1436 is corrected by making the following correcting amendment:

PART 1436—FARM STORAGE FACILITY LOAN PROGRAM REGULATIONS

1. The authority for part 1436 continues to read as follows:

Authority: 7 U.S.C. 7971 and 8789; and 15 U.S.C. 714 through 714p.

§ 1436.15 [Amended]

2. In § 1436.15(b), add the word “loan” immediately after “Until the”.

Chris P. Beyerhelm,
Acting Administrator, Farm Service Agency, and Executive Vice President, Commodity Credit Corporation.

[FR Doc. 2017-06449 Filed 3-31-17; 8:45 am]

BILLING CODE 3410-05-P